DEPARTMENT OF AGRICULTURE

Natural Resources Conservation Service

Notice of Cancellation of Meeting of the Agricultural Air Quality Task Force

AGENCY: Natural Resources Conservation Service (NRCS), USDA.

ACTION: Notice of meeting cancellation.

SUMMARY: The Agricultural Air Quality Task Force (AAQTF) meeting originally scheduled for Thursday, September 22-23, 2005, in Ithaca, New York, has been cancelled. The original meeting notice can be found in the Federal Register, Volume 70, Number 151, pages 45649-45650, published on Monday, August 8, 2005.

FOR FURTHER INFORMATION CONTACT: Questions or comments should be directed to Dr. Diane E. Gelburd, Designated Federal Official; telephone: (202) 720-2587; fax: (202) 720-2646; e-mail: Diane.Gelburd@wdc.usda.gov.

SUPPLEMENTARY INFORMATION: Notice of this meeting is given under the Federal Advisory Committee Act, 5 U.S.C. App. 2. Additional information concerning AAQTF may be found on the World Wide Web at http://aaqtf.tamu.edu/. Notice of future AAQTF meetings will be published in the Federal Register.

Procedural

Meetings of AAQTF are open to the public. Written materials already submitted by members of the public will be retained and distributed to AAQTF at the next scheduled meeting, of which details will appear in the Federal Register.

Signed in Washington, DC on August 10, 2005.
Bruce I. Knight,
Chief.

[FR Doc. 05-16654 Filed 8-22-05; 8:45 am]

BILLING CODE 3410-16-P